DEPARTMENT OF ENERGY

Federal Energy Regulatory Commission

[Docket Nos. RP00-321-001 and RP01-86-001]

Destin Pipeline Company, L.L.C.; Notice of Compliance Filing

May 24, 2002.

Take notice that on May 10, 2002, Destin Pipeline Company, L.L.C. (Destin) tendered for filing as part of its FERC Gas Tariff, Original Volume No. 1, the revised tariff sheets as listed on Appendix A attached to the filing.

Destin states that purpose of this filing is to comply with the Commission's Order on Compliance with Order Nos. 637, 587-G, and 587-L issued on April 12, 2002.

A copy of this filing is available for public inspection during regular business hours at Destin's offices at 501 WestLake Park Boulevard, Houston, Texas 77079-2696. In addition copies of this filing are being served on all parties to the proceedings in Docket Nos. RP00-321-001 and RP01-86-001, affected shippers and applicable state regulatory agencies.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-13672 Filed 5-30-02; 8:45 am]

BILLING CODE 6717-01-P